COMMITTEE FOR PURCHASE FROM PEOPLE WHO ARE BLIND OR SEVERELY DISABLED

Procurement List; Additions

AGENCY: Committee for Purchase From People Who Are Blind or Severely Disabled.

ACTION: Additions to the procurement list.

SUMMARY: This action adds products and services to the Procurement List that will be furnished by nonprofit agencies employing persons who are blind or have other severe disabilities.

DATES: Effective Date: 8/31/2015.

ADDRESSES: Committee for Purchase From People Who Are Blind or Severely Disabled, 1401 S. Clark Street, Suite 715, Arlington Virginia, 22202-4149.

FOR FURTHER INFORMATION CONTACT: Barry S. Lineback, Telephone: (703) 603-7740, Fax: (703) 603-0655, or email CMTEFedReg@AbilityOne.gov.

SUPPLEMENTARY INFORMATION:

Additions

On 6/6/2014 (79 FR 32716-32718); 5/8/2015 (80 FR 26548-26549); 6/5/2015 (80 FR 32096-32097); and 6/19/2015 (80 FR 35320-35321), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Names(s):

5340-00-NIB-0160—Safety Padlock, Red, 1.5″ Shackle

5340-00-NIB-0162—Hasp, Steel with Tabs, 1″

5340-00-NIB-0220—6 Lockout Padlocks, Nylon, Red

Distribution: A-List

5340-00-NIB-0163—Large Plug Lockout with Label

5340-00-NIB-0164—Small Plug Lockout with Label

5340-00-NIB-0166—Gate Valve Lockout, 1″ to 2-1/2″

5340-00-NIB-0169—Gate Valve Lockout, 2-1/2″ to 5″

5340-00-NIB-0183—Wall Switch Lockout

5340-00-NIB-0204—Universal Single Circuit Breaker Lockout

5340-00-NIB-0205—Universal Multi-pole Circuit Breaker Lockout

5340-00-NIB-0208—Hasp, 1.5″ Steel with Tabs

5340-00-NIB-0213—Cable/Valve/Hasp Lockout Device

5340-00-NIB-0221—3 Lockout Padlocks, Nylon, Red

Distribution: B-List

Mandatory Source of Supply: Association for the Blind and Visually Impaired—Goodwill Industries of Greater Rochester, Rochester, NY

Mandatory Purchase For: Total Government Requirement

Contracting Activity: Defense Logistics Agency Troop Support, Philadelphia, PA

NSN(s)—Product Names(s):

6135-00-900-2139—9V Alkaline non-rechargeable battery

6135-01-301-8776—3.6V Lithium AA non-rechargeable battery

Mandatory Source of Supply: Eastern Carolina Vocational Center, Inc., Greenville, NC

Mandatory Purchase For: Total Government Requirement

Contracting Activity: Defense Logistics Agency Land and Maritime, Columbus, OH

Distribution: A-List

Services

Service Type: Healthcare Housekeeping and Related Service

Service is Mandatory For: U.S. Army, Reynolds Army Community Hospital & Multiple Medical Treatment Facilities, Fort Sill, OK

Mandatory Source of Supply: Professional Contract Services, Inc., Austin, TX

Contracting Activity: Dept of the Army, W40M USA MEDCOM HCAA JBSA, Fort Sam Houston, TX

Service Type: Base Supply Center Service

Service is Mandatory For: U.S. Air Force, Tyndall Air Force Base, FL

Mandatory Source of Supply: Winston-Salem Industries for the Blind, Inc., Winston-Salem, NC

Contracting Activity: Dept of the Air Force, FA4819 325TH Contracting SQ, Tyndall AFB, FL

Service Type: Janitorial Service

Service is Mandatory For: Department of Energy, Western Area Power Administration, Sioux Falls Field Office, Brandon, SD

Mandatory Source of Supply: South Dakota Achieve, Sioux Falls, ID

Contracting Activity: Department Of Energy, Western-Upper Great Plains Region, Billings, MT

Barry S. Lineback,
Director, Business Operations.

[FR Doc. 2015-18850 Filed 8-3-15; 8:45 am]

BILLING CODE 6353-01-P